DEPARTMENT OF THE INTERIOR

Bureau of Land Management

[BLM_NV_FRN_MO4500176465]

Notice of Availability of the Draft Resource Management Plan Amendment and Environmental Impact Statement for the Rough Hat Clark Solar Project in Clark County, NV

AGENCY: Bureau of Land Management, Interior.

ACTION: Notice of availability.

SUMMARY: In compliance with the National Environmental Policy Act of 1969, as amended (NEPA), and the Federal Land Policy and Management Act of 1976, as amended (FLPMA), the Bureau of Land Management (BLM) has prepared a Draft Resource Management Plan (RMP) Amendment and Draft Environmental Impact Statement (EIS) for the Rough Hat Clark Solar Project and by this notice is providing information announcing the opening of the comment period on the Draft RMP Amendment/EIS.

DATES: This notice announces the opening of a 90-day comment period for the Draft RMP Amendment/EIS beginning with the date following the Environmental Protection Agency's (EPA) publication of its Notice of Availability (NOA) in the Federal Register.

To afford the BLM the opportunity to consider comments on the Draft RMP Amendment/EIS, please ensure your comments are received prior to the close of the 90-day comment period or 15 days after the last public meeting, whichever is later.

The BLM will be holding one in-person public meeting and one virtual public meeting during the public comment period.

• In-Person Meeting

○ Date and Time: January 30, 2024, 6 p.m. to 8 p.m. Pacific standard time (PST)

○ Location: Pahrump Nugget Hotel and Casino, 681 NV Highway 160, Pahrump, Nevada 89048

• Virtual Meeting

○ Date and Time: February 1, 2024, 6 p.m. to 8 p.m. PST

○ Registration information: https://eplanning.blm.gov/eplanning-ui/project/2019992/510

Details on public meetings will be provided on the National NEPA Register project website: https://eplanning.blm.gov/eplanning-ui/project/2019992/510.

ADDRESSES: The Draft RMP Amendment/EIS is available for review on the BLM National NEPA Register project website at https://eplanning.blm.gov/eplanning-ui/project/2019992/510. Additionally, a copy of the Draft RMP Amendment/EIS is physically available at the following locations:

• BLM Southern Nevada District Office, Pahrump Field Office, 4701 N Torrey Pines Drive, Las Vegas, Nevada 89130

• Pahrump Community Library, 701 East Street, Pahrump, NV 89408

• Tecopa Branch Library, 408 Tecopa Hot Springs Road, Tecopa, CA 92389

Written comments related to the Draft RMP Amendment/EIS for the Rough Hat Clark Solar Project in Clark County, NV may be submitted by any of the following methods:

• Website: https://eplanning.blm.gov/eplanning-ui/project/2019992/510.

• Email: BLM_NV_SND_EnergyProjects@blm.gov.

• Mail: BLM Southern Nevada District Office, Attn: Rough Hat Clark Solar Project, 4701 N Torrey Pines Drive, Las Vegas, NV 89130.

• Documents pertinent to this proposal may be examined online at https://eplanning.blm.gov/eplanning-ui/project/2019992/510 and at the locations above.

FOR FURTHER INFORMATION CONTACT: Whitney Wirthlin, Project Manager, telephone (725) 249-3318; address 4701 N Torrey Pines Drive, Las Vegas, NV 89130; email BLM_NV_SND_EnergyProjects@blm.gov. Individuals in the United States who are deaf, deafblind, hard of hearing, or have a speech disability may dial 711 (TTY, TDD, or TeleBraille) to access telecommunications relay services for contacting Whitney Wirthlin. Individuals outside the United States should use the relay services offered within their country to make international calls to the point-of-contact in the United States.

SUPPLEMENTARY INFORMATION: This document provides notice that the BLM Nevada State Director has prepared a Draft RMP Amendment/EIS and provides information announcing the opening of the comment period on the Draft RMP Amendment/EIS. The RMP Amendment is being considered to allow the BLM to evaluate the effects of modifying the Visual Resource Management (VRM) Class III designated lands south of State Route 160 and west of Tecopa Road to the Town of Pahrump, Nevada to VRM Class IV, which would require amending the existing 1998 Las Vegas RMP.

The planning area in Clark and Nye Counties, Nevada encompasses approximately 9,890,365 acres within the Southern Nevada District area. The total acreage for the VRM Class I through IV areas designated under the 1998 Las Vegas RMP is approximately 3,297,016 acres.

The RMP Amendment would encompasses approximately 9,960 acres of BLM-administered land currently designated as VRM Class III. An amendment to the Las Vegas RMP is being considered to update the BLM's VRM management objectives in this area to VRM Class IV. The amendment area would include the proposed Rough Hat Clark Solar Project area along with other constructed projects and proposed solar applications within the Pahrump Valley.

The BLM is utilizing the NEPA substitution process to comply with the requirements of section 106 of the National Historic Preservation Act, 54 U.S.C. 306108, consistent with 36 CFR 800.8(c). The BLM, as lead Federal agency, has incorporated information and the steps of the section 106 process into the Draft EIS, and publication of the Draft EIS will allow the consulting parties and the public an opportunity to review and comment on the process as provided in 36 CFR 800.8(c)(2).

Purpose and Need

The need for the BLM's action (processing the Applicant's application) is to respond to the Applicant's request for a right-of-way (ROW) authorization to construct, operate, maintain, and decommission the proposed Project in accordance with the BLM's responsibility under title V of FLPMA and 43 CFR part 2800. The BLM's action of considering the ROW application also would meet the BLM's obligation to contribute towards the legislative and administrative goals of advancing the development of renewable energy production on Federal public lands as directed by section 3104 of the Energy Act of 2020 and Executive Order 14057.

The Project as proposed would not conform to the 1998 Las Vegas RMP as required by 43 CFR 1610.5-3(a). The BLM would need to amend the RMP to bring it into compliance. In particular, the Applicant's proposed Project does not conform with the management objectives of the Project area's VRM classification (Class III).

The purpose of the BLM's action is to determine if the Applicant's Project and alternatives are consistent with relevant laws, regulations, and policies, and to consider whether to grant, grant with modifications, or deny the ROW. The purpose of the RMP Amendment is to ensure that any development of renewable energy production in the general vicinity of the Applicant's proposed Project area conforms with the RMP's provisions, as provided for in 43 CFR 1610.5-3(c), specifically by reclassifying this geographic area as VRM Class IV.

The Draft EIS addresses the direct, indirect, and cumulative environmental impacts of the Proposed Action and alternatives. Alternatives to the Proposed Action were developed by the BLM to avoid or reduce various resource conflicts. Key resource constraints include habitat for and presence of Mojave desert tortoise, which is listed as threatened under the Endangered Species Act, presence of waters of the United States, limited groundwater resources, vegetation at the Project site, and generation of dust.

Alternatives Including the Preferred Alternative

The BLM has analyzed three alternatives in detail, including the no action alternative. These are the Applicant Proposed Action, Alternative Action 1, and the No Action Alternative.

Alternative Action 1 (referred to as the Resources Integration Alternative) was identified in response to issues raised by the public and agency considerations. The intent of the Resources Integration Alternative is to minimize disturbance to vegetation and soils within the solar facility by setting maximum allowable disturbance thresholds to vegetation during construction, setting restoration goals, and utilizing topography-spanning technologies for solar panel array installation. Setting a disturbance cap would ensure a consistent comparison of alternatives and outcomes for NEPA analysis purposes. Specifically, Alternative Action 1—Resources Integration Alternative would implement non-traditional development methods (overland travel), as this construction method is less intensive than traditional methods and is expected to improve the retention of native vegetation, wildlife habitat, soils, seed banks, and biological soil crusts while minimizing water quality impacts and air quality impacts from fugitive dust.

The No Action Alternative would be a continuation of existing conditions and no new action would be taken.

The BLM further considered seven additional alternatives but dismissed these alternatives from detailed analysis as explained in the Draft RMP Amendment/EIS.

The State Director has identified Alternative Action 1—Resources Integration Alternative as the Preferred Alternative. Alternative Action 1—Resources Integration Alternative was found to best meet the State Director's planning guidance and is designed to be a Project lifecycle alternative to not only address the impacts of construction, but also operations, maintenance, and decommissioning of the solar facility. Alternative Action 1—Resources Integration Alternative minimizes disturbance to vegetation and soils within the solar facility, thereby minimizing impacts to wildlife habitat, soils, air quality, and water quality.

Mitigation

The BLM included seven mitigation measures: dust control and stabilization (MM AIR-1), reducing the Project footprint (MM WILD-1), holding a job fair in a nearby community (MM EJ-1), facilitating Tribal consultation (MM NA-1), fire prevention and safety (MM PS-3), reducing cumulative transportation effects (MM TRAF-1), and advanced notification to Clark County Department of Aviation (MM V-1). These mitigation measures, along with required Solar Programmatic EIS Programmatic Design Features (PDFs), Southern Nevada District Office PDFs, and required management plans, are described in appendix B of the Draft RMP Amendment/EIS.

Schedule for the Decision-Making Process

The BLM will provide additional opportunities for public participation consistent with the NEPA and land use planning processes, including a 30-day public protest period and a concurrent 60-day Governor's consistency review on the Proposed RMP Amendment. The Proposed RMP Amendment/Final EIS is anticipated to be available for public protest by August 2024 with an Approved RMP Amendment and Record of Decision by October 2024.

The BLM will continue to consult with Indian Tribal Nations on a government-to-government basis in accordance with Executive Order 13175, BLM MS 1780 and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Jon K. Raby,
State Director.

[FR Doc. 2024-00393 Filed 1-11-24; 8:45 am]

BILLING CODE 4331-21-P